DEPARTMENT OF JUSTICE

Drug Enforcement Administration

Joseph Thomas Allevi, M.D.; Revocation of Registration

On July 24, 2001, the Deputy Assistant Administrator, Office of Diversion Control, Drug Enforcement Administration (DEA), issued an Order to Show Cause (OTSC) by certified mail to Joseph Thomas Allevi, M.D., notifying him of an opportunity to show cause as to why the DEA should not revoke his DEA Certificate of Registration, BA4784927, pursuant to 21 U.S.C. 824(a)(3), and deny any pending applications for renewal of such registration pursuant to 21 U.S.C. 823(f), on the grounds that Dr. Allevi was not authorized by the State of California to handle controlled substances. The order also notified Mr. Allevi that should no request for hearing be filed within 30 days, his right to a hearing would be deemed waived.

The OTSC was sent to Dr. Allevi at his DEA registered premises in Laguna Niguel, California. The OTSC was returned, marked “Attempted, Not Known.” To date, no communications have been received from Dr. Allevi nor anyone purporting to represent him.

Therefore, the Deputy Administrator, finding that (1) 30 days having passed since the DEA made a legally sufficient attempt to serve the Order to Show Cause, and (2) no request for a hearing having been received, concludes that Dr. Allevi is deemed to have waived his right to a hearing. Following a complete review of the investigative file in this matter, the Deputy Administrator now enters his final order without a hearing pursuant to 21 CFR 1301.43(d) and (e), and 1301.46.

The Deputy Administrator finds as follows. Dr. Allevi currently possesses DEA Certificate of Registration BA4784927, issued to him in California. By Order of the Medical Board of California (Board), dated May 8, 2000, the State of California issued charges seeking the revocation of Dr. Allevi's Physician's and Surgeon's Certificate. The Board outlined five separate causes for discipline, including inter alia an allegation that between December 1999 and April 2000, Dr. Allevi issued false prescriptions for Schedule III and IV controlled substances in the names of his wife and daughters, but in fact was obtaining the prescriptions for his own personal use. Dr. Allevi subsequently admitted to an investigating law enforcement officer that he was addicted to controlled substances, and was diverting controlled substances for his own personal use. Each of the five causes for discipline set forth in the Order by the Board stemmed from various acts of misconduct by Dr. Allevi concerning the mishandling of controlled substances.

As a result of the Board's action, Dr. Allevi entered into a Stipulation for Surrender of License with the Board, effective August 29, 2000. Among the terms and conditions was an agreement that Dr. Allevi surrender his Physician's and Surgeon's Certificate. The investigative file contains no evidence that Dr. Allevi's Certificate has been reinstated. Therefore, the Deputy Administrator concludes that Dr. Allevi is not currently licensed or authorized to handle controlled substances in California.

The DEA does not have the statutory authority pursuant to the Controlled Substances Act to issue or to maintain a registration if the applicant or registrant is without state authority to handle controlled substances in the state in which he or she practices. See 21 U.S.C. 823(f), and 824(a)(3). This prerequisite has been consistently upheld in prior DEA cases. See Graham Travers Schuler, M.D., 65 FR 50,570 (2000); Romeo J. Perez, M.D., 62 FR 16,193 (1997); Demetris A. Green, M.D., 61 FR 60,728 (1996); Dominick A. Ricci, M.D., 58 FR 51,104 (1993).

In the instant case, the Deputy Administrator finds the Government has presented evidence demonstrating that Dr. Allevi is not authorized to practice medicine in California, and therefore, the Deputy Administrator infers that Dr. Allevi is also not authorized to handle controlled substances in California, the state in which he holds his DEA Certificate of Registration.

Accordingly, the Deputy Administrator of the Drug Enforcement Administration, pursuant to the authority vested in him by 21 U.S.C. 823 and 824 and 28 CFR 0.100(b) and ).104, hereby orders that the DEA Certificate of Registration BA4784927, previously issued to Joseph Thomas Allevi, M.D., be, and it hereby is, revoked. The Deputy Administrator hereby further orders that any pending applications for renewal or modification of said registration be, and hereby are, denied. This order is effective June 19, 2002.

John B. Brown, III,
Deputy Administrator.

[FR Doc. 02-12483 Filed 5-17-02; 8:45 am]

BILLING CODE 4410-09-M